DEPARTMENT OF TRANSPORTATION

Surface Transportation Board

[STB Finance Docket No. 35223]

Illinois Central Railroad Company—Trackage Rights Exemption—Wisconsin Central Ltd.

Pursuant to a written trackage rights agreement entered into between Illinois Central Railroad Company (IC) and Wisconsin Central Ltd. (WC), IC has agreed to grant non-exclusive overhead and interchange trackage rights to WC over IC's line of railroad between milepost 31.6 at University Park, IL (Stuenkel Road), and milepost 20.1 at Harvey, IL (South Junction), a distance of approximately 11.5 miles (line).¹

¹ A redacted version of the trackage rights agreement between WC and IC was filed with the notice of exemption. The full version was concurrently filed under seal along with a motion for protective order, which will be addressed in a separate decision.

The transaction may be consummated on or after March 28, 2009, the effective date of the exemption (30 days after the exemption was filed).

The purpose of the proposed transaction is to enable WC to handle efficiently overhead and interchange freight movements between University Park and Harvey. Under the trackage rights agreement, WC shall not perform any local freight service on the line. WC does not indicate that the transaction imposes interchange commitments. See 49 CFR 1180.4(g)(4).

As a condition to this exemption, any employees affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by March 20, 2009 (at least 7 days before the exemption becomes effective).

Pursuant to the Consolidated Appropriations Act, 2008, Public Law 110-161, section 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35223, must be filed with the Surface Transportation Board, 395 E Street, SW., Washington, DC 20423-0001. In addition, a copy of each pleading must be served on Thomas J. Healey, Counsel—Regulatory, CN, 17641 S. Ashland Avenue, Homewood, IL 60430.

Board decisions and notices are available on our Web site at http://www.stb.dot.gov.

Decided: March 4, 2009.
By the Board, Joseph H. Dettmar, Acting Director, Office of Proceedings.
Jeffrey Herzig,
Clearance Clerk.

[FR Doc. E9-5123 Filed 3-12-09; 8:45 am]

BILLING CODE 4915-01-P